DEPARTMENT OF JUSTICE

Office of Justice Programs

[OJP (OJJDP) Docket No. 1506]

Meeting of the Federal Advisory Committee on Juvenile Justice

AGENCY: Office of Juvenile Justice and Delinquency Prevention, Office of Justice Programs, Justice.

ACTION: Notice of meeting.

SUMMARY: The Office of Juvenile Justice and Delinquency Prevention (OJJDP) announces the Fall meeting of the Federal Advisory Committee on Juvenile Justice (FACJJ), which will be held in Austin TX October 29 to October 31, 2009.

Dates and Locations: The meeting times and locations are as follows: Thursday, October 29, 2009, 4:15 p.m. to 6:15 p.m.; Friday, October 30, 2009, 8:30 a.m. to 5:30 p.m.; and Saturday, October 31, 2009, 8 a.m. to 10:30 a.m. The meeting will take place at the Hilton Garden Inn Austin Downtown, 500 North IH 35, Austin, TX 78701.

FOR FURTHER INFORMATION CONTACT: Robin Delany-Shabazz, Designated Federal Official, OJJDP, Robin.Delany-Shabazz@usdoj.gov, or 202-307-9963. [Note: This is not a toll-free number.]

SUPPLEMENTARY INFORMATION: The Federal Advisory Committee on Juvenile Justice (FACJJ), established pursuant to Section 3(2)A of the Federal Advisory Committee Act (5 U.S.C. App. 2), will meet to carry out its advisory functions under Section 223(f)(2)(C-E) of the Juvenile Justice and Delinquency Prevention Act of 2002. The FACJJ is composed of one representative from each state and territory. FACJJ duties include: reviewing Federal policies regarding juvenile justice and delinquency prevention; advising the OJJDP Administrator with respect to particular functions and aspects of OJJDP; and advising the President and Congress with regard to State perspectives on the operation of OJJDP and Federal legislation pertaining to juvenile justice and delinquency prevention. More information, including a member list, may be found at http://www.facjj.org.

Meeting Agenda

1. Thursday, October 29, 2009, 4:15 p.m. to 6:15 p.m.

• Presentations on Law Enforcement Approaches to Disproportionate Minority Confinement in the Juvenile Justice System (Open Session)

2. Friday, October 30, 2009, 8 a.m. to 5:30 p.m.

• 8:30 a.m. to 11:45 a.m. Registration, Call to Order; Welcome; Report on Responses to 2009 Annual Request for Information; Report from the Annual Report Sub Committee; Roundtable Sessions with Staff of the Office of Juvenile Justice and Delinquency Prevention (Open Session)

• 11:45 a.m. to 1:30 p.m. Working Lunch and Sub Committee Meetings (Closed Session)

• 1:30 p.m. to 4:30 p.m. The Future of FACJJ: Options for Consideration (Open Session)

• 4:30 p.m. to 5:30 p.m. Recognition, Reflections and Questions: A Discussion with the Acting Administrator; Summary and Close. (Open Session)

3. Saturday, October 31, 2009, 8 a.m. to 10:30 a.m.

• Call to Order; Discussion—Topics of Concern: Impact on States and Advice to OJJDP; Sub Committee Report Outs; Next Steps, Summary and Adjournment (Open Session)

For security purposes, members of the FACJJ and of the public who wish to attend, must pre-register online at http://www.facjj.org. Should problems arise with web registration, call Daryel Dunston at 240-221-4343. Members of the public must register by Monday, October 26, 2009. [Note: these are not toll-free telephone numbers.] Additional identification documents may be required. Space is limited. Please note: Photo identification will be required for admission to the meeting.

Written Comments

Interested parties may submit written comments by Monday, October 26, 2009, to Robin Delany-Shabazz, Designated Federal Official for the Federal Advisory Committee on Juvenile Justice, OJJDP, at Robin.Delany-Shabazz@usdoj.gov. If e-mail is not available, please fax your comments to 202-307-2819 and call Joyce Mosso at 202-305-4445 to ensure that the fax was received. [Note: These are not toll-free numbers.] No oral presentations will be permitted at the meeting. However, written questions and comments from members of the public attending the meeting may be invited.

Dated: October 9, 2009.
Jeff Slowikowski,
Acting Administrator, Office of Juvenile Justice and Delinquency Prevention.

[FR Doc. E9-24836 Filed 10-14-09; 8:45 am]

BILLING CODE 4410-18-P